FEDERAL COMMUNICATIONS COMMISSION

47 CFR Part 90

[ET Docket No. 19-138; FCC 24-123; FR ID 284135]

Use of the 5.850-5.925 GHz Band; Corrections

AGENCY: Federal Communications Commission.

ACTION: Correcting amendments.

SUMMARY: On December 13, 2024, the Federal Communications Commission (Commission) revised Commission rules. That document inadvertently added a rule section to its regulatory text that does not exist, resulting in an erroneous entry in the Code of Federal Regulations (CFR). This document corrects these errors in the regulatory text and the final regulations as published in the CFR.

DATES: Effective on March 21, 2025.

FOR FURTHER INFORMATION CONTACT: Jamie Coleman of the Office of Engineering and Technology, at Jamie.Coleman@fcc.gov or 202-418-2705.

SUPPLEMENTARY INFORMATION: This is a summary of the FCC's Final rule, FCC 24-123, published December 13, 2024 (89 FR 100838). This is the second set of corrections. The first set of corrections was published in the Federal Register on January 17, 2025 (90 FR 5724). This document augments the corrections that were published in the Federal Register on January 17, 2025 (90 FR 5724).

List of Subjects in 47 CFR Part 90

Communications equipment, Radio, Reporting and recordkeeping requirements.

Accordingly, 47 CFR part 90 is corrected by making the following correcting amendments:

PART 90—PRIVATE LAND MOBILE RADIO SERVICES

1. The authority citation for part 90 continues to read as follows:

Authority: 47 U.S.C. 154(i), 161, 303(g), 303(r), 332(c)(7), 1401-1473

§ 90.394 [Removed]

2. Remove § 90.394.

Federal Communications Commission.
Marlene Dortch,
Secretary.

[FR Doc. 2025-04132 Filed 3-20-25; 8:45 am]

BILLING CODE 6712-01-P